DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | # Depth in feet above ground. * Elevation in feet (NGVD) + Elevation in feet (NAVD) Modified
City of Durham, North Carolina
Docket No.: FEMA-D-7674
North Carolina | City of Durham | Third Fork Creek Tributary | At the confluence with Third Fork Creek Tributary C | +328
|  |  | Approximately 260 feet upstream of Sherbon Drive | +273
| City of Durham | Third Fork Creek Tributary A | Approximately 1,700 feet upstream of the confluence with Third Fork Creek | +252
|  |  | Approximately 200 feet upstream of Southpoint Crossing Drive | +291
| City of Durham | Third Fork Creek Tributary C | Approximately 50 feet downstream of Hope Valley Road | +258
|  |  | Approximately 250 feet upstream of Princeton Avenue | +319
| City of Durham | Third Fork Creek Tributary D | Approximately 1,100 feet upstream of the confluence with Third Fork Creek | +256
|  |  | Approximately 200 feet upstream of Morningside Drive | +288
| City of Durham | Third Fork Creek Tributary E | Approximately 300 feet upstream of the confluence with Third Fork Creek | +290
|  |  | Approximately 250 feet upstream of Ward Street | +332
# Depth in feet above ground.
* National Geodetic Vertical Datum.
+ North American Vertical Datum.
ADDRESSES
City of Durham
Maps are available for inspection at the Durham City Hall, Public Works Department, Stormwater Services Division, 101 City Hall Plaza, Durham, North Carolina.

Flooding source(s) | Location of referenced elevation | * Elevation in feet (NGVD) + Elevation in feet (NAVD) # Depth in feet above ground. Modified | Communities affected
Johnson County, Indiana and Incorporated Areas
Docket No.: FEMA-B-7454
Brewer Ditch | At confluence with Youngs Creek | +749 | Johnson County (Unincorporated Areas), City of Franklin, Town of Whiteland.
| Approximately 1,600 feet downstream of U.S. Highway 31 | +782
| Approximately 1,600 feet downstream of U.S. Highway 31 | +782 | Town of Whiteland.
| Approximately at County Road 125 | +802
Canary Ditch | At confluence with Youngs Creek | +744 | Johnson County (Unincorporated Areas), City of Franklin.
| Approximately 1,300 feet upstream of Earlywood Drive | +767
| Approximately 1,300 feet upstream of Earlywood Drive | +767 | Johnson County (Unincorporated Areas).
| Approximately 1,900 feet upstream of County Road East 400 North | +784
East Grassy Creek | At confluence with Grassy Creek | +781 | Johnson County (Unincorporated Areas).
| Approximately at Whiteland Road | +782
| Approximately at Whiteland Road | +785 | Johnson County (Unincorporated Areas), Town of New Whiteland, Town of Whiteland.
| Approximately at Tracy Road | +810
| Approximately at Tracy Road | +810 | Johnson County (Unincorporated Areas).
| Approximately 300 feet upstream of County Road East 750 North | +820
Graham Ditch | At confluence with Canary Ditch | +761 | Johnson County (Unincorporated Areas), City of Franklin.
| Approximately 1,500 feet upstream of Earlywood Drive | +768
Grassy Creek | Approximately 2,400 feet upstream of County Road West 200 North | +766 | Johnson County (Unincorporated Areas), City of Greenwood, Town of Whiteland, Town of New Whiteland.
| Approximately 750 feet downstream of Granada Drive | +809
| Approximately 750 feet downstream of Granada Drive | +809 | City of Greenwood.
| Approximately 250 feet upstream of Fiesta Drive | +814
| Approximately 250 feet upstream of Fiesta Drive | +814 | City of Greenwood.
| Approximately 300 feet downstream of Interstate 65 | +821
Hurricane Creek | At confluence with Youngs Creek | +723 | City of Franklin.
| Approximately at Upper Shelbyville Road | +728
| Approximately at Upper Shelbyville Road | +728 | Johnson County (Unincorporated Areas)
| Approximately at County Road 375 East | +811 |
Tracy Ditch | At confluence with Grassy Creek | +789 | Johnson County (Unincorporated Areas), City of Greenwood.
| Approximately 50 feet upstream of West Stop 18 Road | +794
Youngs Creek | Approximately 7,500 feet upstream of U.S Highway 31 | +712 | Johnson County (Unincorporated Areas), City of Franklin.
| Approximately 4,000 feet upstream of South Morton Street | +729
| Approximately 4,000 feet upstream of South Morton Street | +729 | Johnson County (Unincorporated Areas), City of Franklin.
| At confluence with Roberts Ditch | +766
# Depth in feet above ground.
* National Geodetic Vertical Datum.
+ North American Vertical Datum.
ADDRESSES
Johnson County (Unincorporated Areas)
Maps available for inspection at Johnson County Planning Zoning, 86 West Court Street, Franklin, IN.
Town of Edinburgh
Maps available for inspection at Town Hall, 107 S. Holland Street, Edinburgh, IN.
City of Franklin
Maps available for inspection at Planning Department, 55 W. Madison Street, Franklin, IN.
City of Greenwood
Maps available for inspection at Planning Department, 225 E. Emerson Avenue, Greenwood, IN.
Town of New Whiteland
Maps available for inspection at Town Hall, 401 Mooreland Drive, New Whiteland, IN.
Town of Prince's Lake
Maps available for inspection at Town Hall, 14 E. Lakeview Drive, Nineveh, IN.
Town of Whiteland
Maps available for inspection at Whiteland Town Hall, 549 Main Street, Whiteland, IN.
Hardin County, Kentucky and Incorporated Areas
Docket No.: FEMA-B-7470
Buffalo Creek | Approximately 750 feet upstream of Poplar Street | +708 | City of Elizabethtown, Hardin County (Unincorporated Areas).
| Approximately 2,065 feet downstream of Bluegrass Road | +812
Hawkins Steel Tributary | Approximately 130 feet downstream of Steel Drive | +745 | City of Elizabethtown, Hardin County (Unincorporated Areas).
| Approximately 615 feet upstream of Hodgenville Road | +763
Park Lane Tributary | From the confluence with Freeman Creek | +702 | City of Elizabethtown, Hardin County (Unincorporated Areas).
| Approximately 60 feet downstream Of Meadow Lane | +737
Pear Orchard Tributary | Approximately 545 feet downstream of Village Drive | +716 | City of Elizabethtown, Hardin County (Unincorporated Areas).
| Approximately 80 feet upstream of Pear Orchard Road | +789
# Depth in feet above ground.
* National Geodetic Vertical Datum.
+ North American Vertical Datum.
ADDRESSES
Hardin County (Unincorporated Areas)
Maps are available for inspection at 14 Public Square, 3rd Floor, Elizabethtown, Kentucky 42701.
City of Elizabethtown
Maps are available for inspection at 200 West Dixie Avenue, Elizabethtown, Kentucky 42701.
Cayuga County, New York (All Jurisdictions)
Docket No.: FEMA-D-7642
Cayuga Lake | Entire shoreline within communities | +386 | Town of Aurelius, Town of Genoa, Town of Ledyard, Town of Springport.
| Entire shoreline within community | +386 | Village of Cayuga.
Cold Spring Brook (Reach 2) | Approximately 2,200 feet upstream of State Street | +554 | City of Auburn, Town of Throop.
| Approximately 1,380 feet upstream of York Street | +590
Cold Spring Brook/North Brook | Approximately 1,320 feet upstream of confluence with Seneca River/Erie Canal | +383 | Town of Brutus, Town of Mentz, Village of Weedsport.
| Approximately 4,550 feet upstream of Hamilton Road | +420
Crane Brook | Approximately 3,175 feet downstream of Conrail | +589 | City of Auburn, Town of Aurelius.
| Approximately 1,600 feet upstream of Genesee Street | +649
Dry Creek | At confluence with Owasco Inlet | +731 | Village of Moravia, Town of Moravia.
| Approximately 1,840 feet upstream of Main Street (State Route 38) | +773
Dutch Hollow Brook | Approximately 780 feet upstream of confluence with Owasco Lake | +717 | Town of Oswasco.
| Approximately 2,480 feet upstream of State Route 38A (East Lake Road) | +743
Hunter Brook | Approximately 520 feet downstream of Conrail | +644 | City of Auburn.
| Approximately 1,370 feet upstream of North Marvine Avenue | +761
Tributary No. 1 | Approximately 1,960 feet downstream of Grant Avenue | +653 | City of Auburn, Town of Sennett.
| Approximately 1,135 feet upstream of Prospect Street | +755
Tributary No. 2 | At confluence with Hunter Brook | +716 | City of Auburn, Town of Owasco.
| Approximately 940 feet upstream of Second Avenue | +767
Mill Creek | At confluence with Owasco Inlet | +728 | Town of Moravia, Village of Moravia.
| Approximately 2,650 feet upstream of East Cayuga Street (State Route 38A) | +783
North Brook Tributary 1 | At the confluence with North Brook | +400 | Town of Brutus.
| Approximately 580 feet upstream of Hamilton Road | +420
Owasco Inlet | Approximately 2,070 feet downstream of State Route 38 | +722 | Village of Moravia, Town of Moravia, Town of Locke.
| Approximately 2.16 miles upstream of Aurora Street | +744
Owasco Lake | Entire shoreline within community | +717 | Town of Fleming, Town of Moravia, Town of Niles, Town of Scipio, Town of Venice.
Owasco Lake Outlet | Approximately 6,420 feet upstream of Sperry Road | +385 | Town of Mentz, Town of Throop, Village of Port Byron.
| Approximately 1,930 feet upstream of Hayden Road | +425
Owasco Outlet | Approximately 900 feet downstream of Canoga Street | +553 | City of Auburn, Town of Aurelius, Town of Fleming, Town of Owasco.
| Approximately 1,040 feet upstream of State Route 437 (White Bridge Road) | +716
Paines Creek | Approximately 25 feet downstream of State Route 90 (Main Street) | +387 | Village of Aurora, Town of Ledyard.
| Approximately 1,000 feet upstream of State Route 90 (Main Street) | +389
Putnam Brook | At confluence with Cold Spring Brook | +389 | Town of Brutus, Village of Weedsport.
| Approximately 2,200 feet upstream of Stevens Road | +571
Tributary No. 1 | At confluence with Putnam Brook | +454 | Town of Brutus, Town of Sennett.
| Approximately 2,710 feet upstream of Shepherd Road | +562
Tributary No. 2 | At confluence with Putnam Brook | +485 | Town of Brutus.
| Approximately 2,300 feet upstream of East Brutus Road (second crossing) | +539
Tributary No. 3 | Approximately 110 feet upstream of confluence with Putnam Brook | +524 | Town of Brutus, Town of Sennett.
| Approximately 4,450 feet upstream of Jericho Road | +551
Tributary No. 4 | At confluence with Putnam Brook | +568 | Town of Brutus, Town of Sennett.
| Approximately 1,220 feet upstream of Grant Avenue/State Highway 5 | +580
Seneca River | Approximately 225 feet downstream of Haiti Road | +384 | Town of Mentz, Town of Conquest.
| Approximately 1.69 miles upstream of Haiti Road | +384
Seneca River/Erie Canal | Approximately 80 feet upstream of Jordan Road | +382 | Town of Mentz, Town of Brutus, Town of Cato, Town of Conquest, Town of Montezuma.
| Approximately 8,960 feet upstream of Conrail | +384
Sucker Brook | Approximately 1,010 feet upstream of confluence with Owasco Lake | +717 | Town of Owasco.
| Approximately 2,570 feet upstream of East Lake Road (State Route 38A) | +730
Unnamed Tributary 2 to Cayuga Lake | Approximately 65 feet upstream of confluence with Cayuga Lake | +386 | Village of Union Springs, Town of Springport.
| Approximately 585 feet upstream of Creager Road | +560
# Depth in feet above ground.
* National Geodetic Vertical Datum.
+ North American Vertical Datum.
ADDRESSES
City of Auburn
Maps are available for inspection at the Auburn Memorial City Hall, 24 South Street, Auburn, New York 13021.
Town of Aurelius
Maps are available for inspection at the Aurelius Town Hall, 1241 West Genesee Street Road, Auburn, New York 13021.
Town of Brutus
Maps are available for inspection at the Brutus Town Clerk's Office, 9021 North Seneca Street, Weedsport, New York 13166.
Town of Cato
Maps are available for inspection at the Cato Town Hall, 11320 Shortcut Road, Cato, New York 13033.
Town of Conquest
Maps are available for inspection at the Town of Conquest, 1289 Fuller Road, Port Byron, New York 13140.
Town of Fleming
Maps are available for inspection at the Town of Fleming, 2433 Dublin Road, Auburn, New York 13021.
Town of Genoa
Maps are available for inspection at the Genoa Town Hall, 1000 Bartnick Road, Genoa, New York 13071.
Town of Ledyard
Maps are available for inspection at the Ledyard Town Hall, 1099 Poplar Ridge Road, Aurora, New York 13026.
Town of Locke
Maps are available for inspection at the Town of Locke, 703 State Route 38, Locke, New York 13092.
Town of Mentz
Maps are available for inspection at the Town of Mentz, 14 Mentz Drive, Port Byron, New York 13140.
Town of Montezuma
Maps are available for inspection at the Town of Montezuma Memorial Building, Dock Street, 52, Montezuma, New York 13117.
Town of Moravia
Maps are available for inspection at the Town of Moravia, 139 Main Street, Moravia, New York 13118.
Town of Niles
Maps are available for inspection at the Niles Town Hall, 5921 New Hope Road, Moravia, New York 13118.
Town of Owasco
Maps are available for inspection at the Owasco Town Hall, 2 Bristol Avenue, Auburn, New York 13021.
Town of Scipio
Maps are available for inspection at the Town of Scipio, 3705 State Route 34, Scipio Center, New York 13147.
Town of Sennett
Maps are available for inspection at the Town of Sennett, 6931 Cherry Street Road, Auburn, New York 13021.
Town of Springport
Maps are available for inspection at the Springport Town Hall, 859 State Route 326, Cayuga, New York 13034.
Town of Throop
Maps are available for inspection at the Throop Town Hall, 7471 Robinson Road, Auburn, New York 13021.
Town of Venice
Maps are available for inspection at the Town of Venice, 1589 McAllister Road, Genoa, New York 13071.
Village of Aurora
Maps are available for inspection at the Aurora Village Office, 456 Main Street, Aurora, New York 13026.
Village of Cayuga
Maps are available for inspection at the Village of Cayuga, 6205 Railroad Street, Cayuga, New York 13034.
Village of Moravia
Maps are available for inspection at the Moravia Village Office, 22 Central Street, Moravia, New York 13118.
Village of Port Byron
Maps are available for inspection at the Port Byron Village Hall, 52 Utica Street, Port Byron, New York 13140.
Village of Union Springs
Maps are available for inspection at the Village of Union Springs, 26 Chapel Street, Union Springs, New York 13160.
Village of Weedsport
Maps are available for inspection at the Weedsport Village Hall, 8892 South Street, Weedsport, New York 13166.
Lincoln County, North Carolina and Incorporated Areas
Docket No.: FEMA-D-7672
Anderson Creek | At the confluence with Killian Creek | +667 | Lincoln County (Unincorporated Areas).
| At the confluence with Hooper Creek and Wingate Creek | +709
Tributary 1 | At the confluence with Anderson Creek | +675 | Lincoln County (Unincorporated Areas).
| Approximately 1.9 miles upstream of the confluence with Anderson Creek | +746
Armstrong Branch | At the confluence with Dellinger Branch | +712 | Lincoln County (Unincorporated Areas).
| Approximately 0.9 mile upstream of the confluence with Dellinger Branch | +765
Ballard Creek | At the confluence with Wingate Creek | +714 | Lincoln County (Unincorporated Areas).
| Approximately 0.6 mile upstream of the confluence of Ballard Creek Tributary 3 | +829
Tributary 1 | At the confluence with Ballard Creek | +745 | Lincoln County (Unincorporated Areas).
| Approximately 0.6 mile upstream of the confluence with Ballard Creek | +791
Tributary 2 | At the confluence with Ballard Creek | +765 | Lincoln County (Unincorporated Areas).
| Approximately 90 feet downstream of East King Wilkinson Road (State Route 1349) | +827
Tributary 3 | At the confluence with Ballard Creek | +811 | Lincoln County (Unincorporated Areas).
| Approximately 1,900 feet upstream of North Ernest Huss Lane | +911
Bradshaw Branch | At the confluence with Leepers Creek | +713 | Lincoln County (Unincorporated Areas).
| Approximately 1.7 miles upstream of the confluence with Leepers Creek | +754
Buffalo Creek | At Cleveland/Lincoln County boundary | +957 | Lincoln County (Unincorporated Areas).
| Approximately 600 feet upstream of NC-10 | +1,155
Tributary 5 | At the confluence with Buffalo Creek | +988 | Lincoln County (Unincorporated Areas).
| Approximately 0.6 mile upstream of the confluence with Buffalo Creek | +1,017
Tributary 6 | At the confluence with Buffalo Creek | +1,033 | Lincoln County (Unincorporated Areas).
| Approximately 0.5 mile upstream of the confluence of Buffalo Creek Tributary 6A | +1,099
Tributary 6A | At the confluence with Buffalo Creek Tributary 6 | +1,074 | Lincoln County (Unincorporated Areas).
| Approximately 0.6 mile upstream of the confluence with Buffalo Creek Tributary 6 | +1,118
Carpenter Creek | Approximately 0.4 mile upstream of the confluence with Clarks Creek | +774 | Lincoln County (Unincorporated Areas), City of Lincolnton.
| Approximately 100 feet downstream of U.S. 321 | +865
Tributary 1 | At the confluence with Carpenter Creek | +801 | Lincoln County (Unincorporated Areas).
| Approximately 0.4 mile upstream of North Bulldog Lane | +833
Catawba River | At Gaston/Lincoln County boundary | +665 | Lincoln County (Unincorporated Areas).
| At Cowans Ford Dam | +670
Tributary 4 | At the confluence with Catawba River | +665 | Lincoln County (Unincorporated Areas).
| Approximately 0.4 mile upstream of the confluence with Catawba River | +665
Tributary 5 | At the confluence with Catawba River | +667 | Lincoln County (Unincorporated Areas).
| Approximately 0.7 mile upstream of the confluence with Catawba River | +673
Tributary 6 | At the confluence with Catawba River | +668 | Lincoln County (Unincorporated Areas).
| Approximately 300 feet upstream of North Club Drive (State Route 1395) | +682
Clarks Creek | Approximately 0.8 mile downstream of West Maiden-Salem Road (State Route 1274) | +780 | Lincoln County (Unincorporated Areas).
| Approximately 200 feet upstream of Lincoln/Catawba County boundary | +792
Tributary 1 | Approximately 1,100 feet upstream of the confluence with Clarks Creek | +765 | City of Lincolnton.
| Approximately 150 feet upstream of North Aspen Street | +788
Tributary 2 | At the confluence with Clarks Creek | +781 | Lincoln County (Unincorporated Areas).
| Approximately 0.6 mile upstream of the confluence with Clarks Creek | +790
Crooked Creek | At the confluence with Leepers Creek | +691 | Lincoln County (Unincorporated Areas).
| Approximately 0.9 mile upstream of the confluence with Leepers Creek | +722
Dellinger Branch | At the confluence with Leepers Creek | +712 | Lincoln County (Unincorporated Areas).
| Approximately 1,150 feet upstream of South Low Bridge Road (State Route 1314) | +792
Tributary 1 | At the confluence with Dellinger Branch | +738 | Lincoln County (Unincorporated Areas).
| Approximately 1,200 feet upstream of East Orchard Road (State Route 1358) | +809
Forney Creek | At the confluence with Killian Creek | +663 | Lincoln County (Unincorporated Areas).
| Approximately 2.6 miles upstream of East Optimist Club Road (State Route 1380) | +769
Tributary 1 | At the confluence with Forney Creek | +679 | Lincoln County (Unincorporated Areas).
| Approximately 1,350 feet upstream of the confluence of Forney Creek Tributary 1B | +710
Tributary 1A | At the confluence with Forney Creek Tributary 1 | +679 | Lincoln County (Unincorporated Areas).
| Approximately 0.7 mile upstream of the Railroad | +707
Tributary 1B | At the confluence with Forney Creek Tributary 1 | +695 | Lincoln County (Unincorporated Areas).
| Approximately 0.4 mile upstream of the confluence with Forney Creek Tributary 1 | +702
Glenn Creek | At Cleveland/Lincoln County boundary | +899 | Lincoln County (Unincorporated Areas).
| Approximately 230 feet downstream of NC-27 | +1,041
Hog Branch | At the confluence with Larkard Creek | +788 | Lincoln County (Unincorporated Areas).
| Approximately 1.0 mile upstream of North U.S. 321 (State Route 1844) | +830
Hooper Creek | At the confluence with Anderson Creek and Wingate Creek | +709 | Lincoln County (Unincorporated Areas).
| Approximately 1.6 miles upstream of the confluence with Anderson Creek and Wingate Creek | +753
Howards Creek | Approximately 1,800 feet upstream of the confluence with South Fork Catawba River | +769 | Lincoln County (Unincorporated Areas).
| Approximately 100 feet upstream of Catawba/Lincoln County boundary | +972
Tributary 1 | At the confluence with Howards Creek | +769 | Lincoln County (Unincorporated Areas).
| Approximately 0.8 mile upstream of the confluence with Howards Creek | +795
Tributary 2 | At the confluence with Howards Creek | +780 | Lincoln County (Unincorporated Areas).
| Approximately 1.4 miles upstream of North Alf Hoover Road (State Route 1200) | +904
Tributary 3 | At the confluence with Howards Creek | +839 | Lincoln County (Unincorporated Areas).
| Approximately 0.5 mile upstream of North Howards Creek Mill Road (State Route 1194) | +880
Tributary 4 | At the confluence with Howards Creek | +859 | Lincoln County (Unincorporated Areas).
| Approximately 0.5 mile upstream West Abernethy Farm Road (State Route 1195) | +904
Tributary 5 | At the confluence with Howards Creek | +867 | Lincoln County (Unincorporated Areas).
| Approximately 100 feet downstream of North Overlook Lane | +909
Tributary 6 | At the confluence with Howards Creek | +911 | Lincoln County (Unincorporated Areas).
| Approximately 0.8 mile upstream of West Reepsville Road (State Route 1113) | +1,001
Tributary 7 | At the confluence with Howards Creek | +928 | Lincoln County (Unincorporated Areas).
| Approximately 1,100 feet upstream of West Gilbert Sain Road (State Route 1210) | +1,022
Hoyle Creek | Approximately 200 feet downstream of Gaston/Lincoln County boundary | +742 | Lincoln County (Unincorporated Areas).
| Approximately 10 feet downstream of East Keener Road (State Route 1323) | +872
Tributary 1 | At the confluence with Hoyle Creek | +742 | Lincoln County (Unincorporated Areas).
| Approximately 0.4 mile upstream of East Magnolia Grove Road (State Route 1309) | +773
Tributary 2 | At the confluence with Hoyle Creek | +756 | Lincoln County (Unincorporated Areas).
| Approximately 0.5 mile upstream of the confluence with Hoyle Creek | +770
Tributary 4 | At the confluence with Hoyle Creek | +767 | Lincoln County (Unincorporated Areas).
| Approximately 0.7 mile upstream of the confluence with Hoyle Creek | +789
Tributary 5 | At the confluence with Hoyle Creek | +784 | Lincoln County (Unincorporated Areas).
| Approximately 0.4 mile upstream of East Hovis Road (State Route 1315) | +810
Tributary 6 | At the confluence with Hoyle Creek | +809 | Lincoln County (Unincorporated Areas).
| Approximately 0.4 mile upstream of South Hill Road (State Route 1321) | +855
Indian Creek | Approximately 0.6 mile downstream of Gaston/Lincoln County boundary | +787 | Lincoln County (Unincorporated Areas).
| At Catawba/Lincoln County boundary | +1,011
Tributary 1 | At upstream side of South Landers Church Road (State Route 1176) | +762 | Lincoln County (Unincorporated Areas).
| Approximately 650 feet upstream of South St. Marks Church Road (State Route 1172) | +808
Tributary 2 | Approximately 1,200 feet upstream of the confluence with Indian Creek | +773 | Lincoln County (Unincorporated Areas).
| Approximately 1,200 feet upstream of the dam | +896
Johnson Creek | At Gaston/Lincoln County boundary | +664 | Lincoln County (Unincorporated Areas).
| Approximately 0.9 mile upstream of Gaston/Lincoln County boundary | +680
Killian Creek | At Gaston/Lincoln County boundary | +635 | Lincoln County (Unincorporated Areas).
| Approximately 1.5 miles upstream of East Mundy Road (State Route 1349) | +829
Larkard Creek | At the confluence with Clarks Creek | +782 | Lincoln County (Unincorporated Areas).
| Approximately 200 feet upstream of East Springs East Road (State Route 1342) | +845
Leepers Creek | At the Gaston/Lincoln County boundary | +635 | Lincoln County (Unincorporated Areas).
| At the confluence with Lippard Creek and Sawmill Branch | +807
Tributary 1 | At the confluence with Leepers Creek | +661 | Lincoln County (Unincorporated Areas).
| Approximately 0.6 mile upstream of the confluence with Leepers Creek | +677
Tributary 2 | At the confluence with Leepers Creek | +663 | Lincoln County (Unincorporated Areas).
| Approximately 0.7 mile upstream of the confluence with Leepers Creek | +685
Tributary 3 | At the confluence with Leepers Creek | +665 | Lincoln County (Unincorporated Areas).
| Approximately 2,000 feet upstream of the confluence with Leepers Creek | +686
Tributary 4 | At the confluence with Leepers Creek | +667 | Lincoln County (Unincorporated Areas).
| Approximately 0.5 mile upstream of the confluence with Leepers Creek | +696
Tributary 5 | At the confluence with Leepers Creek | +671 | Lincoln County (Unincorporated Areas).
| Approximately 1.2 miles upstream of the confluence with Leepers Creek | +702
Leonard Fork | Approximately 1,300 feet upstream of the confluence with Indian Creek | +773 | Lincoln County (Unincorporated Areas).
| Approximately 0.5 mile upstream of West Flay Road (State Route 1140) | +934
Tributary 1 | At the confluence with Leonard Fork | +868 | Lincoln County (Unincorporated Areas).
| Approximately 0.9 mile upstream of the confluence with Leonard Fork | +937
Lick Fork Creek | At the confluence with Indian Creek | +790 | Lincoln County (Unincorporated Areas).
| Approximately 1,300 feet upstream of Gaston/Lincoln County boundary | +792
Lick Run Creek | At the confluence with Leepers Creek | +754 | Lincoln County (Unincorporated Areas).
| Approximately 900 feet upstream of North Leeping Brook Road (State Route 1530) | +895
Lippard Creek | At the confluence with Leepers Creek and Sawmill Branch | +807 | Lincoln County (Unincorporated Areas).
| At Catawba/Lincoln County boundary | +869
Tributary 1 | At the confluence with Lippard Creek | +832 | Lincoln County (Unincorporated Areas).
| Approximately 1,600 feet upstream of East Ivey Church Road (State Route 1343) | +891
Lithia Inn Branch | Approximately 500 feet downstream of North Jonas Drive | +774 | City of Lincolnton.
| Approximately 450 feet upstream of U.S. 321 | +878
Tributary 1 | Approximately 500 feet upstream of the confluence with Lithia Inn Branch | +772 | City of Lincolnton.
| Approximately 600 feet upstream of State Route 150/South Dave Warlick Drive | +828
Tributary 2 | At the confluence with Lithia Inn Branch Tributary 1 | +783 | City of Lincolnton.
| Approximately 200 feet upstream of East Laurel Street | +805
Little Buffalo Creek | At Cleveland/Lincoln County boundary | +854 | Lincoln County (Unincorporated Areas).
| Approximately 50 feet downstream of West Flay Road (State Route 1140) | +964
Little Creek (East) | At the confluence with Indian Creek | +847 | Lincoln County (Unincorporated Areas).
| Approximately 200 feet upstream of West Houser Farm Road (State Route 1127) | +960
Little Creek (West) | At the Cleveland/Lincoln County boundary | +961 | Lincoln County (Unincorporated Areas).
| Approximately 1.4 miles upstream of Cleveland/Lincoln County boundary | +1,022
Little Indian Creek | At the confluence of Indian Creek | +878 | Lincoln County (Unincorporated Areas).
| Approximately 250 feet upstream of West Macedonia Church Road | +1,067
Tributary 1 | At the confluence with Little Indian Creek | +905 | Lincoln County (Unincorporated Areas).
| Approximately 0.7 mile upstream of the confluence with Little Indian Creek | +991
Tributary 2 | At the confluence with Little Indian Creek | +917 | Lincoln County (Unincorporated Areas).
| Approximately 0.5 mile upstream of North Red Dawn Estate Trail | +986
Tributary 3 | At the confluence with Little Indian Creek | +934 | Lincoln County (Unincorporated Areas).
| Approximately 300 feet upstream of Hulls Grove Church Road | +984
Tributary 4 | At the confluence with Little Indian Creek | +937 | Lincoln County (Unincorporated Areas).
| Approximately 0.4 mile upstream of West Macedonia Church Road (State Route 1108) | +1,069
Tributary 4A | At the confluence with Little Indian Creek Tributary 4 | +978 | Lincoln County (Unincorporated Areas).
| Approximately 0.7 mile upstream of North Tallent Road (State Route 1120) | +1,047
Little Pott Creek | At the confluence with Pott Creek | +793 | Lincoln County (Unincorporated Areas).
| Approximately 150 feet downstream of North Cansler Road (State Route 1197) | +874
Lutz Branch | At the Gaston/Lincoln County boundary | +738 | Lincoln County (Unincorporated Areas).
| Approximately 150 feet downstream of East Mirror Lake Road (State Route 1474) | +760
McClure Branch | At the confluence with Leepers Creek | +671 | Lincoln County (Unincorporated Areas).
| Approximately 1.6 miles upstream of South Mt. Zion Church Road (State Route 1404) | +743
Mill Creek | At the confluence with Indian Creek | +795 | Lincoln County (Unincorporated Areas).
| Approximately 1.5 miles upstream of South Bess Chapel Church Road (State Route 1150) | +1,023
Muddy Creek | At Gaston/Lincoln County boundary | +713 | Lincoln County (Unincorporated Areas).
| Approximately 0.7 mile upstream of the confluence of Muddy Creek Tributary 2 | +786
Tributary 1 | At the confluence of Muddy Creek | +748 | Lincoln County (Unincorporated Areas).
| Approximately 1,700 feet upstream of U.S. 321 | +778
Tributary 2 | At the confluence with Muddy Creek | +752 | Lincoln County (Unincorporated Areas).
| Approximately 1,450 feet upstream of U.S. 321 | +793
Ore Bank Branch | At the confluence with Leepers Creek | +783 | Lincoln County (Unincorporated Areas).
| Approximately 1.0 mile upstream of the confluence with Leepers Creek | +822
Pott Creek | At the confluence with South Fork Catawba River | +778 | Lincoln County (Unincorporated Areas).
| At Catawba/Lincoln County boundary | +802
Reed Creek | At the confluence with Leepers Creek | +723 | Lincoln County (Unincorporated Areas).
| Approximately 1,900 feet upstream of East Stagecoach Road (State Route 1363) | +773
Rockdam Creek | At the confluence with Howards Creek | +769 | Lincoln County (Unincorporated Areas).
| Approximately 250 feet upstream of South Howards Creek School Road (State Route 1186) | +830
Sawmill Branch | At the confluence with Leepers Creek | +807 | Lincoln County (Unincorporated Areas).
| Approximately 1.3 miles upstream of North Union Church Road (State Route 1344) | +871
Tributary 1 | At the confluence with Sawmill Branch | +833 | Lincoln County (Unincorporated Areas).
| Approximately 0.5 mile upstream of the confluence with Sawmill Branch | +864
Snyder Creek | At the confluence with Killian Creek | +686 | Lincoln County (Unincorporated Areas).
| Approximately 1.8 mile upstream of the confluence with Killian Creek | +732
South Fork Catawba River | Approximately 2.4 miles upstream of the confluence of Howards Creek | +773 | Lincoln County (Unincorporated Areas).
| At Catawba/Lincoln County boundary | +793
South Fork Catawba River Tributary 3 | At Gaston/Lincoln County boundary | +717 | Lincoln County (Unincorporated Areas).
| Approximately 500 feet upstream of West Hoffman Road (State Route 1245) | +730
Tributary 4 | At Railroad | +757 | Lincoln County (Unincorporated Areas), City of Lincolnton.
| Approximately 200 feet upstream of State Route 150 | +776
Tributary 5 | At the confluence with South Fork Catawba River | +782 | Lincoln County (Unincorporated Areas).
| Approximately 1.0 mile upstream of the confluence with South Fork Catawba River | +800
Tanyard Creek | At the confluence with Howards Creek | +779 | Lincoln County (Unincorporated Areas).
| Approximately 2.6 miles upstream of West Reepsville Road (State Route 1113) | +906
Tributary 1 | At the confluence with Tanyard Creek | +791 | Lincoln County (Unincorporated Areas).
| Approximately 1.6 miles upstream of West Reepsville Road (State Route 1113) | +890
Walker Branch | Approximately 200 feet downstream of North Aspen Street | +765 | Lincoln County (Unincorporated Areas), City of Lincolnton.
| Approximately 200 feet downstream of East Wilma Sigmon Road | +815
Tributary 2 | At the confluence with Walker Branch | +805 | Lincoln County (Unincorporated Areas), City of Lincolnton.
| Approximately 0.4 mile upstream of North Huss Street | +947
Wilkinson Creek | At the confluence with Wingate Creek | +753 | Lincoln County (Unincorporated Areas).
| Approximately 300 feet upstream of State Route 150 | +910
Wingate Creek | At the confluence with Anderson Creek and Hooper Creek | +709 | Lincoln County (Unincorporated Areas).
| Approximately 1.3 miles upstream of the confluence of Wilkinson Creek | +804
# Depth in feet above ground.
* National Geodetic Vertical Datum.
+ North American Vertical Datum.
ADDRESSES
City of Lincolnton
Maps are available for inspection at the City of Lincolnton Planning Department, 114 West Sycamore Street, Lincolnton, North Carolina.
Lincoln County (Unincorporated Areas)
Maps are available for inspection at the Lincoln County Planning Department, 302 North Academy Street, Lincolnton, North Carolina.
Brown County, South Dakota and Incorporated Areas
Docket No.: FEMA-B-7343
4th Street Drainageway | Approximately 400 feet downstream of Sixth Street | +1,295 | City of Groton.
| Approximately 200 feet downstream of Sixth Street | +1,296
| Approximately 300 feet upstream of 13th Avenue/Highway 12 | +1,302
# Depth in feet above ground.
* National Geodetic Vertical Datum.
+ North American Vertical Datum.
ADDRESSES
City of Groton
Maps are available for inspection City Hall, 209 North Main Street, Groton, South Dakota, 57445.

(Catalog of Federal Domestic Assistance No. 83.100, “Flood Insurance.”)

Dated: February 28, 2007.
David I. Maurstad,
Director, Mitigation Division, Federal Emergency Management Agency, Department of Homeland Security.

[FR Doc. E7-4157 Filed 3-7-07; 8:45 am]

BILLING CODE 9110-12-P